ENVIRONMENTAL PROTECTION AGENCY

[ER-FRL-6699-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 11, 2008 (73 FR 19833).

Draft EISs

EIS No. 20080057, ERP No. D-AFS-J65509-MT, Young Dodge Project, Proposed Timber Harvest and Associate Activities, Prescribed Burning, Road and Recreation Management, Kootenai National Forest, Rexford Ranger District, Lincoln County, MT.

Summary: EPA supports activities to reduce hazardous fuels and fire risk in wildland and urban interface, and restore declining tree species. However, EPA expressed environmental concerns about the impacts from disturbance to soil, water, wildlife and habitat connectivity, and recommended modifications to the preferred alternative, including additional road segment closure to reduce these impacts. Rating EC2.

EIS No. 20080059, ERP No. D-AFS-J65510-UT, Uinta National Forest Oil and Gas Leasing, Implementation, Identify National Forest Systems Land with Federal Mineral Rights, Wasatch, Utah, Juab, Tooele, and Sanpete Counties, UT

Summary: EPA expressed environmental concerns about air quality, wetlands, and inventoried roadless areas, and recommended confirmation of the anticipated air impacts and clarification of the wetlands and roadless area impacts. Rating EC2.

EIS No. 20080095, ERP No. D-NOA-L39065-OR, Bull Run Water Supply Habitat Conservation Plan, Application for and Incidental Take Permit to cover the Continued Operation and Maintenance, Sandy River Basin, City of Portland, OR

Summary: EPA does not object to the proposed project. Rating LO.

EIS No. 20080117, ERP No. D-AFS-L65550-00, Selway-Bitterroot Wilderness Plants Management Project, To Prevent the Establishment of New Invaders and Reduce the Impacts of Established Invasive Plants on Native Plant Community Stability, Sustainability and Diversity, Nez Perce, Clearwater, Lolo, and Bitterroot National Forests, ID and MT.

Summary: EPA expressed environmental concerns about potential herbicide treatment impacts to water quality within waterbodies that presently do not meet water quality standards. The final EIS should include information demonstrating that weed treatments would be protective of water quality. Rating EC2.

EIS No. 20080126, ERP No. D-AFS-L65551-ID, Corralled Bear Project, Management of Vegetation, Hazardous Fuels, and Access, Plus Watershed Improvements, Palouse Ranger District, Clearwater National Forest, Latah County, ID.

Summary: EPA supports the management direction proposed under Alternative 3 and requested that the final EIS include additional clarification on the proposed OHV route designations. Rating LO.

EIS No. 20080153, ERP No. DS-NOA-E91021-00, Snapper Grouper Amendment 15B, Fishery Management Plan, Updated Information on the Economic Analysis for the Bag Limit Sales Provision, Update Management Reference Point for Golden Tilefish (Lopholatilus chamaeleonticeps); Define Allocations for Snowy Grouper (Epinephelus niveatus) and Red Porgy (Pagrus pagrus), NC, SC, FL, and GA.

Summary: EPA does not object to the proposed action. Rating LO.

Final EISs

EIS No. 20080157, ERP No. F-AFS-L65522-WA, Gifford-Pinchot National Forest and Columbia River Gorge National Scenic Area (Washington Portion) Site-Specific Invasive Plant Treatment Project, Implementation, Skamania, Cowlitz, Lewis, Clark, Klickitat Counties, WA.

Summary: No formal comment letter was sent to the preparing agency.

Dated: June 3, 2008.
Robert W. Hargrove,
Director, NEPA Compliance Division, Office of Federal Activities.

[FR Doc. E8-12710 Filed 6-5-08; 8:45 am]

BILLING CODE 6560-50-P